DEPARTMENT OF ENERGY

Federal Energy Regulatory Commission

Combined Notice of Filings #1

Take notice that the Commission received the following electric rate filings:

Docket Numbers: ER11-2127-005.

Applicants: Terra-Gen Dixie Valley, LLC.

Description: OATT Compliance Filing to be effective 5/14/2011.

Filed Date: 7/14/14.

Accession Number: 20140714-5043.

Comments Due: 5 p.m. ET 8/4/14.

Docket Numbers: ER11-2370-003; ER10-2218-002; ER10-2211-002.

Applicants: Cambria CoGen Company, Orlando CoGen Limited, L.P., Vandolah Power Company, L.L.C.

Description: Notice of Non-Material Change in Status of Cambria CoGen Company, et. al.

Filed Date: 7/11/14.

Accession Number: 20140711-5175.

Comments Due: 5 p.m. ET 8/1/14.

Docket Numbers: ER14-2185-001.

Applicants: EFS Parlin Holdings, LLC.

Description: Supplement to July 1, 2014 EFS Parlin Holdings, LLC tariff filing.

Filed Date: 7/11/14.

Accession Number: 20140711-5060.

Comments Due: 5 p.m. ET 8/1/14.

Docket Numbers: ER14-2399-000.

Applicants: Southwest Power Pool, Inc.

Description: Revisions in Attachment AE—Integrated Marketplace to be effective 9/8/2014.

Filed Date: 7/10/14.

Accession Number: 20140710-5155.

Comments Due: 5 p.m. ET 7/31/14.

Docket Numbers: ER14-2407-001.

Applicants: ISO New England Inc., New England Power Pool Participants Committee.

Description: Winter 2014-15 Reliability Program (Part 2 of 2) to be effective 12/3/2014.

Filed Date: 7/11/14.

Accession Number: 20140711-5141.

Comments Due: 5 p.m. ET 8/1/14.

Docket Numbers: ER14-2407-002.

Applicants: ISO New England Inc.

Description: XML Errata Filing to Winter 2014-15 Reliability Program (Part 2 of 2) to be effective 12/3/2014.

Filed Date: 7/14/14.

Accession Number: 20140714-5048.

Comments Due: 5 p.m. ET 8/4/14.

Docket Numbers: ER14-2409-000.

Applicants: Chambers Cogeneration, Limited Partnership.

Description: First Revised MBR re 784 to be effective 7/12/2014.

Filed Date: 7/11/14.

Accession Number: 20140711-5159.

Comments Due: 5 p.m. ET 8/1/14.

Docket Numbers: ER14-2410-000.

Applicants: Logan Generating Company, L.P.

Description: 1st Revised MBR to be effective 7/12/2014.

Filed Date: 7/11/14.

Accession Number: 20140711-5161.

Comments Due: 5 p.m. ET 8/1/14.

Docket Numbers: ER14-2411-000.

Applicants: Edgecombe Genco, LLC.

Description: 1st Revised MBR re 784 to be effective 7/12/2014.

Filed Date: 7/11/14.

Accession Number: 20140711-5163.

Comments Due: 5 p.m. ET 8/1/14.

Docket Numbers: ER14-2412-000.

Applicants: Northampton Generating Company, L.P.

Description: 2nd Revised MBR re 784 to be effective 7/12/2014.

Filed Date: 7/11/14.

Accession Number: 20140711-5164.

Comments Due: 5 p.m. ET 8/1/14.

Docket Numbers: ER14-2413-000.

Applicants: Selkirk Cogen Partners, L.P.

Description: 1st Revised MBR to be effective 7/12/2014.

Filed Date: 7/11/14.

Accession Number: 20140711-5165.

Comments Due: 5 p.m. ET 8/1/14.

Docket Numbers: ER14-2414-000.

Applicants: Dominion Solar Gen-Tie, LLC.

Description: Baseline Filing—DSGT Shared Facilities Agreement, Rate Sched. No. 1 to be effective 9/7/2014.

Filed Date: 7/11/14.

Accession Number: 20140711-5166.

Comments Due: 5 p.m. ET 8/1/14.

Docket Numbers: ER14-2415-000.

Applicants: Alta Wind VIII, LLC.

Description: Alta Wind VIII MBR Tariff Filing to be effective 7/12/2014.

Filed Date: 7/11/14.

Accession Number: 20140711-5167.

Comments Due: 5 p.m. ET 8/1/14.

Docket Numbers: ER14-2416-000.

Applicants: Spruance Genco, LLC.

Description: 1st Revised MBR to be effective 7/12/2014.

Filed Date: 7/11/14.

Accession Number: 20140711-5169.

Comments Due: 5 p.m. ET 8/1/14.

Take notice that the Commission received the following electric securities filings:

Docket Numbers: ES14-37-000.

Applicants: AEP Generating Company.

Description: Amended and Restated Application Under Section 204 of the Federal Power Act for Authorization to Issue Securities of AEP Generating Company.

Filed Date: 7/11/14.

Accession Number: 20140711-5176.

Comments Due: 5 p.m. ET 7/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2014.
Nathaniel J. Davis, Sr.,
Deputy Secretary.

[FR Doc. 2014-17083 Filed 7-18-14; 8:45 am]

BILLING CODE 6717-01-P